DEPARTMENT OF HOMELAND SECURITY

Federal Emergency Management Agency

[Docket ID FEMA-2019-0002; Internal Agency Docket No. FEMA-B-1974]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Boulder | City of Boulder (19-08-0629P) | The Honorable Suzanne Jones, Mayor, City of Boulder, 1777 Broadway Street, Boulder, CO 80302 | Central Records Department, 1777 Broadway Street, Boulder, CO 80302 | https://msc.fema.gov/portal/advanceSearch | Feb. 24, 2020 | 080024
Summit | Town of Breckenridge (19-08-0262P) | The Honorable Eric Mamula, Mayor, Town of Breckenridge, P.O. Box 168, Breckenridge, CO 80424 | Public Works Department, 1095 Airport Road, Breckenridge, CO 80424 | https://msc.fema.gov/portal/advanceSearch | Jan. 13, 2020 | 080172
Weld | City of Greeley (19-08-0012P) | The Honorable John Gates, Mayor, City of Greeley, 1000 10th Street, Greeley, CO 80631 | City Hall, 1000 10th Street, Greeley, CO 80631 | https://msc.fema.gov/portal/advanceSearch | Jan. 16, 2020 | 080184
Weld | Unincorporated areas of Weld County (19-08-0012P) | The Honorable Barbara Kirkmeyer, Chair, Weld County Board of Commissioners, P.O. Box 758, Greeley, CO 80632 | Weld County Department of Planning and Zoning, 1555 North 17th Avenue, Greeley, CO 80631 | https://msc.fema.gov/portal/advanceSearch | Jan. 16, 2020 | 080266
Connecticut: Hartford | Town of West Hartford (19-01-1237P) | The Honorable Matthew Hart, Town of West Hartford Manager, 50 South Main Street, West Hartford, CT 06107 | Town Hall, 50 South Main Street, West Hartford, CT 06107 | https://msc.fema.gov/portal/advanceSearch | Jan. 17, 202 | 095082
Delaware: New Castle | Unincorporated areas of New Castle County (19-03-0220P) | Mr. Matthew Meyer, New Castle County Executive 87 Reads Way, New Castle, DE 19720 | New Castle County Government Center, 87 Reads Way, New Castle, DE 19720 | https://msc.fema.gov/portal/advanceSearch | Feb. 6, 2020 | 105085
Florida:
Charlotte | Unincorporated areas of Charlotte County (19-04-5020P) | The Honorable Ken Doherty, Chairman, Charlotte County Board of Commissioners, 18500 Murdock Circle, Suite 536, Port Charlotte, FL 33948 | Charlotte County Building Department, 18500 Murdock Circle, Port Charlotte, FL 33948 | https://msc.fema.gov/portal/advanceSearch | Jan. 13, 2020 | 120061
Lee | City of Bonita Springs (19-04-5151P) | The Honorable Peter Simmons, Mayor, City of Bonita Springs, 9101 Bonita Beach Road, Bonita Springs, FL 34135 | Community Development Department, 9220 Bonita Beach Road, Bonita Springs, FL 34135 | https://msc.fema.gov/portal/advanceSearch | Jan. 28, 2020 | 120680
Lee | City of Sanibel (19-04-4688P) | The Honorable Kevin Ruane, Mayor, City of Sanibel, 800 Dunlop Road, Sanibel, FL 33957 | Development Services, Planning Division, 800 Dunlop Road, Sanibel, FL 33957 | https://msc.fema.gov/portal/advanceSearch | Jan. 9, 2020 | 120402
Orange | City of Orlando (19-04-5111P) | The Honorable Buddy W. Dyer, Mayor, City of Orlando, P.O. Box 4990, Orlando, FL 32802 | Public Works Department, Engineering Division, 400 South Orange Avenue, 8th Floor, Orlando, FL 32801 | https://msc.fema.gov/portal/advanceSearch | Jan. 28, 2020 | 120186
Polk | Unincorporated areas of Polk County (19-04-0781P) | The Honorable George Lindsey III, Chairman, Polk County Board of Commissioners, P.O. Box 9005, Drawer BC01, Bartow, FL 33831 | Polk County Land Development Division, 330 West Church Street, Bartow, FL 33830 | https://msc.fema.gov/portal/advanceSearch | Jan. 30, 2020 | 120261
Volusia | City of Daytona Beach (19-04-0945P) | The Honorable Derrick L. Henry, Mayor, City of Daytona Beach, 301 South Ridgewood Avenue, Room 200, Daytona Beach, FL 32114 | Utilities Department, 125 Basin Street, Suite 131, Daytona Beach, FL 32115 | https://msc.fema.gov/portal/advanceSearch | Jan. 10, 2020 | 125099
Volusia | Unincorporated areas of Volusia County (19-04-0945P) | Mr. George Recktendwald, Volusia County Manager, 123 West Indiana Avenue, DeLand, FL 32720 | Volusia County Building and Zoning Department, 123 West Indiana Avenue, DeLand, FL 32720 | https://msc.fema.gov/portal/advanceSearch | Jan. 10, 2020 | 125155
Maine: Lincoln | Town of Southport (19-01-0607P) | The Honorable Gerald L. Gamage, Chairman, Town of Southport Board of Selectmen, P.O. Box 149, Southport, ME 04576 | Code Enforcement Department, 361 Hendricks Hill Road, Southport, ME 04576 | https://msc.fema.gov/portal/advanceSearch | Jan. 17, 2020 | 230221
New York: Montgomery | City of Amsterdam (19-02-1207P) | The Honorable Michael J. Villa, Mayor, City of Amsterdam, 61 Church Street, Amsterdam, NY 12010 | City Hall, 61 Church Street, Amsterdam, NY 12010 | https://msc.fema.gov/portal/advanceSearch | Mar. 20, 2020 | 360440
North Carolina: Orange | Town of Carrboro (19-04-0720P) | The Honorable Lydia Lavelle, Mayor, Town of Carrboro, 301 West Main Street, Carrboro, NC 27510 | Planning Department, 301 West Main Street, Carrboro, NC 27510 | https://msc.fema.gov/portal/advanceSearch | Feb. 4, 2020 | 370275
Ohio: Warren | City of Lebanon (19-05-2274P) | The Honorable Amy Brewer, Mayor, City of Lebanon, 50 South Broadway Street, Lebanon, OH 45036 | Engineering Department, 50 South Broadway Street, Lebanon, OH 45036 | https://msc.fema.gov/portal/advanceSearch | Feb. 10, 2020 | 390557
Oklahoma:
Canadian | City of Oklahoma City (19-06-3217P) | The Honorable David Holt, Mayor, City of Oklahoma City, 200 North Walker Avenue, Oklahoma City, OK 73102 | Department of Public Works, 420 West Main Street, Suite 700, Oklahoma City, OK 73102 | https://msc.fema.gov/portal/advanceSearch | Feb. 21, 2020 | 405378
Tulsa | City of Collinsville (19-06-1337P) | The Honorable Bud York, Mayor, City of Collinsville, P.O. Box 730, Collinsville, OK 74021 | Engineering Department, 106 North 12th Street, Collinsville, OK 74021 | https://msc.fema.gov/portal/advanceSearch | Feb. 10, 2020 | 400360
Tulsa | Unincorporated areas of Tulsa County (19-06-1337P) | The Honorable Karen Keith, Chair, Tulsa County Board of Commissioners, 500 South Denver Avenue, Tulsa, OK 74103 | Tulsa County Inspections Department, 633 West 3rd Street, Tulsa, OK 74127 | https://msc.fema.gov/portal/advanceSearch | Feb. 10, 2020 | 400462
Texas:
Bexar | City of Converse (18-06-2882P) | The Honorable Al Suarez, Mayor, City of Converse, 406 South Seguin Road, Converse, TX 78109 | City Hall, 406 South Seguin Road, Converse, TX 78109 | https://msc.fema.gov/portal/advanceSearch | Jan. 13, 2020 | 480038
Collin | City of Frisco (19-06-1915P) | The Honorable Jeff Cheney, Mayor, City of Frisco, 6101 Frisco Square Boulevard, Frisco, TX 75034 | Engineering Services Department, 6101 Frisco Square Boulevard, Frisco, TX 75034 | https://msc.fema.gov/portal/advanceSearch | Feb. 3, 2020 | 480134
Denton | City of Highland Village (19-06-0868P) | Mr. Michael Leavitt, City of Highland Village Manager, 1000 Highland Village Road, Highland Village, TX 75077 | City Hall, 1000 Highland Village Road, Highland Village, TX 75077 | https://msc.fema.gov/portal/advanceSearch | Jan. 31, 2020 | 481105
Harris | Unincorporated areas of Harris County (19-06-0834P) | The Honorable Lina Hidalgo, Harris County Judge, 1001 Preston Street, Suite 911, Houston, TX 77002 | Harris County Engineering Department, Permits Division, 10555 Northwest Freeway, Suite 120, Houston, TX 77092 | https://msc.fema.gov/portal/advanceSearch | Jan. 27, 2020 | 480287
Montgomery | Unincorporated areas of Montgomery County (19-06-0834P) | The Honorable Mark J. Keough, Montgomery County Judge, 501 North Thompson Street, Suite 401, Conroe, TX 77301 | Montgomery County Alan B. Sadler Commissioners Court Building, 501 North Thompson Street, Suite 100, Conroe, TX 77301 | https://msc.fema.gov/portal/advanceSearch | Jan. 27, 2020 | 480483
Tarrant | City of Euless (19-06-0184P) | The Honorable Linda Martin, Mayor, City of Euless, 201 North Ector Drive, Euless, TX 76039 | Planning and Engineering Department, 201 North Ector Drive, Euless, TX 76039 | https://msc.fema.gov/portal/advanceSearch | Feb. 6, 2020 | 480593
Tarrant | City of Fort Worth (19-06-0498P) | The Honorable Betsy Price, Mayor, City of Fort Worth, 200 Texas Street, Fort Worth, TX 76102 | Transportation and Public Works Department, Engineering Vault, 200 Texas Street, Fort Worth, TX 76102 | https://msc.fema.gov/portal/advanceSearch | Feb. 6, 2020 | 480596
Tarrant | City of Haltom City (19-06-0498P) | The Honorable An Truong, Mayor, City of Haltom City, 5024 Broadway Avenue, Haltom City, TX 76117 | Public Works Services Department, 4200 Hollis Street, Haltom City, TX 76111 | https://msc.fema.gov/portal/advanceSearch | Feb. 6, 2020 | 480599
Utah: Salt Lake | City of Riverton (19-08-0446P) | The Honorable Trent Staggs, Mayor, City of Riverton, 12830 South Redwood Road, Riverton, UT 84065 | Public Works Department, 12526 South 4150 West, Riverton, UT 84096 | https://msc.fema.gov/portal/advanceSearch | Feb. 13, 2020 | 490104

[FR Doc. 2019-25244 Filed 11-20-19; 8:45 am]

BILLING CODE 9110-12-P